DEPARTMENT OF JUSTICE

Office of Justice Programs

[OJP(OJP)-1409]

Meeting of the Public Safety Officer Medal of Valor Review Board

AGENCY: Office of Justice Programs, Justice.

ACTION: Notice of meeting.

SUMMARY: This is an announcement of a meeting of the Public Safety Officer Medal of Valor Review Board to review applications for the 2004-2005 Medal of Valor Awards and to discuss upcoming activities.

DATES: The meeting will take place on Thursday, September 16, 2004 from 9 a.m. to 5 p.m. and Friday, September 17, 2004 from 9 a.m. to 5 p.m., e.d.t.

ADDRESSES: The meeting will take place at the Hilton, 10000 Beach Club Drive, Myrtle Beach, SC 29572; Tel: 1-843-449-5000; Fax: 1-843-497-0168.

FOR FURTHER INFORMATION CONTACT: Lizette Benedi, Deputy Assistant Attorney General, Office of Justice Programs, 810 7th Street NW., Sixth Floor, Washington, DC 20531; Phone: (202) 307-5933 (note: this is not a toll free number).

SUPPLEMENTARY INFORMATION:

Authority: The Public Safety Officer Medal of Valor Review Board is authorized to carry out its advisory function under 42 U.S.C. section 15202. (42 U.S.C. section 15201 authorizes the President to award the Public Safety Officer Medal of Valor, the highest national award for valor by a public safety officer.)

Background

This meeting will be open to the public and registrations will be accepted on a space available basis. Members of the public who wish to attend the meeting must register at least five (5) days in advance of the meeting by contacting Ms. Benedi at the above address. All attendees will be required to sign in at the meeting registration desk. Please bring photo identification and allow extra time prior to the meeting.

Access to the meeting will not be allowed without prior registration.

Meeting Format

This meeting will be held according to the following schedule:

Dates: Thursday, September 16, 2004, and Friday, September 17, 2004.

Time: 9 a.m.-5 p.m.; including breaks and working lunch.

Anyone requiring special accommodations should contact Ms. Benedi at least five (5) days in advance of the meeting.

Dated: September 7, 2004.
Lizette Benedi,
Deputy Assistant Attorney General, Office of Justice Programs.

[FR Doc. 04-20586 Filed 9-10-04; 8:45 am]

BILLING CODE 4410-18-P